DEPARTMENT OF TRANSPORTATION

Coast Guard

[USCG-2002-12187]

Chemical Testing; List of Drug Testing Service Agents

AGENCY: Coast Guard, DOT.

ACTION: Notice; request for submissions.

SUMMARY: The Coast Guard receives numerous daily inquiries from mariners asking for the location of drug testing centers that will satisfy the USCG chemical drug testing requirements for licensing or Merchant Mariner Document (MMD) transactions. The Coast Guard wants to identify for mariners those service agents who provide a complete drug test service and to make available to merchant mariners a list of those drug testing service agents. The list would assist mariners in locating a drug testing service agent.

DATES: In order to be included on the initial listing, submissions should be received no later than June 17, 2002.

ADDRESSES: Submissions should be mailed to: Robert C. Schoening, Drug and Alcohol Program Manager, U.S. Coast Guard, Office of Investigations and Analysis (G-MOA-1), 2100 Second Street, SW., Washington, DC 20593-0001.

FOR FURTHER INFORMATION CONTACT: If you have questions about this notice, contact Robert C. Schoening, U.S. Coast Guard at 202-267-0684 or e-mail address RSchoening@comdt.uscg.mil.

SUPPLEMENTARY INFORMATION:

Background

There are approximately 48,000 mariner credentialing transactions annually that require a drug test. The Coast Guard receives numerous daily inquires from mariners asking for the location of drug testing centers that will satisfy the USCG chemical drug testing requirements for licensing or Merchant Mariner Document (MMD) transactions. Given the sheer volume of inquiries, the Coast Guard has determined that making available a list of service agents that provide a complete drug test service would be beneficial to mariners.

Request for Submissions

The Coast Guard wants to identify for mariners those service agents who provide a complete drug test service. A complete drug test service includes the specimen collection, analysis at a Substance Abuse Mental Health Services Administration (SAMHSA) accredited laboratory, review of the test result by a Medical Review Officer, and providing of the drug test results to the mariner. The Coast Guard proposes to develop a list of those service agents that provide a complete drug test service. Agents that provide a complete drug test service and who wish to be included in a Coast Guard list should submit a request for inclusion.

Eligibility for Listing

To be included on this list, all drug testing services offered to mariners must be done in accordance with the requirements of 49 CFR part 40.

Required Contents of Submission

To be listed, the service agent must submit:

1. Name of entity

2. Address of entity (Street address or PO box; City, State, Zip Code)

3. Point of Contact

4. Phone number

5. Days and Hours of operation

6. Geographic areas served:

• State (if local service only is to be provided)

• Nationwide all states, including Alaska, Hawaii, and all territories

• International (Indicate if you offer service on an international basis. Do not submit a list of countries where service can be provided.)

Dissemination to Mariners

Mariners will be able to request a listing of service agents from a USCG Regional Examination Center (REC). Service agents will be listed by state. The mariner will receive a listing for the states requested as well as a list of agents who provide a nationwide drug testing service.

A listing by state will be made available on the Internet through a USCG web page for the Office of Investigations and Analysis, Drug and Alcohol Program Information. A mariner will be able to retrieve a listing of those service agents within a particular state or for all entities that are providing service nationally and internationally. Each listing will have complete name and contact information for each entity listed. Listings submitted by Service Agents will be added to the list periodically.

Qualified Service Agents who wish to be included on the Coast Guard list should submit requests to: Robert C. Schoening, at the address provided under ADDRESSES or email to RSchoening@comdt.uscg.mil.

Service agents who are on the Notice of Suspension List maintained by the DOT Office of Drug and Alcohol Program Compliance (ODAPC) will be immediately removed from this list.

Dated: April 26, 2002.
Joseph J. Angelo,
Director of Standards, Marine Safety, Security and Environmental Protection.

[FR Doc. 02-11059 Filed 5-2-02; 8:45 am]

BILLING CODE 4910-15-P